DEPARTMENT OF COMMERCE

National Oceanic and Atmospheric Administration

[RTID 0648-XD913]

North Pacific Fishery Management Council; Public Meeting

AGENCY: National Marine Fisheries Service (NMFS), National Oceanic and Atmospheric Administration (NOAA), Commerce.

ACTION: Notice of a hybrid meeting.

SUMMARY: The North Pacific Fishery Management Council (Council) Fishery Monitoring Advisory Committee (FMAC) will meet May 13, 2024 through May 14, 2024.

DATES: The meetings will be held on Monday, May 13, 2024, from 9 a.m. to 4 p.m. and on Tuesday, May 14, 2024, from 8:30 a.m. to 4 p.m., Alaska time.

ADDRESSES: The meeting will be a hybrid meeting. On Monday, May 13, attend in-person at North Pacific Fishery Management Council office, 1007 W 3rd Ave., Anchorage, Suite 400. On Tuesday, May 14, attend in person at the North Pacific Research Board office, 1007 West Third Ave., Suite 100 Anchorage, AK 99501 or join online through the link https://meetings.npfmc.org/Meeting/Details/3044.

Council address: North Pacific Fishery Management Council, 1007 W 3rd Ave., Suite 400, Anchorage, AK 99501-2252; telephone (907) 271-2809. Instructions for attending the meeting are given under SUPPLEMENTARY INFORMATION below.

FOR FURTHER INFORMATION CONTACT: Sara Cleaver, Council staff; phone: (907) 271-2809; email: sara.cleaver@noaa.gov. For technical support, please contact Council administrative staff, email: npfmc.admin@noaa.gov.

SUPPLEMENTARY INFORMATION:

Agenda

Monday, May 13, 2024, Through Tuesday, May 14, 2024

The May 2024 FMAC agenda will include: (a) updates since the last FMAC meeting; (b) an abbreviated 2023 Observer Annual report; (c) NMFS updates, including budget, changes to data collections in 2024, supreme court cases, start-up with the Pacific cod trawl cooperative, (d) observer availability issues, and (e) other business.

The agenda is subject to change, and the latest version will be posted at https://meetings.npfmc.org/Meeting/Details/3044 prior to the meeting, along with meeting materials.

Connection Information

You can attend the meeting online using a computer, tablet, or smartphone; or by phone only. Connection information will be posted online at: https://meetings.npfmc.org/Meeting/Details/3044. If you are attending the meeting in-person, please note that all attendees will be required to wear a mask.

Public Comment

Public comment letters will be accepted and should be submitted electronically to https://meetings.npfmc.org/Meeting/Details/3044.

Authority: 16 U.S.C. 1801 et seq.

Dated: April 24, 2024.
Rey Israel Marquez,
Acting Deputy Director, Office of Sustainable Fisheries, National Marine Fisheries Service.

[FR Doc. 2024-09150 Filed 4-26-24; 8:45 am]

BILLING CODE 3510-22-P